DEPARTMENT OF VETERANS AFFAIRS

[OMB Control No. 2900-0554]

Agency Information Collection Activity Under OMB Review: VA Homeless Providers Grant and Per Diem Program

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0554.”

FOR FURTHER INFORMATION CONTACT: VA PRA information: Maribel Aponte, 202-461-8900, vacopaperworkreduact@va.gov

SUPPLEMENTARY INFORMATION:

Title: VA Homeless Providers Grant and Per Diem Program.

OMB Control Number: 2900-0554 https://www.reginfo.gov/public/do/PRASearch.

Type of Review: Revision of a currently approved collection.

Abstract: Public Law 109-461 provided permanent authority for VA's Homeless Providers Grant and Per Diem (GPD) Program for homeless Veterans. The categories of grants include per diem for non-capital grants, special needs grants, and case management grants. The program will not be awarding capital grants in the coming years. This factor, along with historical program data on the actual number of applications received, has resulted in a decrease in the anticipated number of annual grant applications and associated annual burden hours. There are no changes to the information being collected.

Funds appropriated to the Department of Veterans Affairs (VA) for this program are expected to be significantly less than the total amount requested by applicants. Therefore, information must be collected to determine which applicants are eligible and to prioritize applications for determining who will be awarded funds. VA does not require applicants to use a VA Form to respond to the collection of information. Rather, VA requires applicants to respond to the collection of information as published in the Notice of Funding Opportunity (NOFO) in standard business format, and they may use the Federal-wide Standard Forms from the SF-424 family of forms. VA provides the outline for the collection in the NOFO and uses the standard business format to evaluate applicants for all the grant programs under the statutory authority for VA to make grants.

An agency may not conduct or sponsor, and a person is not required to respond to a collection of information unless it displays a currently valid OMB control number. The Federal Register Notice with a 60-day comment period soliciting comments on this collection of information was published at 89 FR 23637, April 4, 2024.

Affected Public: State, Local, and Tribal Governments.

Estimated Annual Burden: 10,000 hours.

Estimated Average Burden per Respondent: 20 hours.

Frequency of Response: Once annually.

Estimated Number of Respondents: 500.

Authority: 44 U.S.C. 3501 et seq.

Maribel Aponte,
VA PRA Clearance Officer, Office of Enterprise and Integration, Data Governance Analytics, Department of Veterans Affairs.

[FR Doc. 2024-12629 Filed 6-7-24; 8:45 am]

BILLING CODE 8320-01-P